OFFICE OF THE UNITED STATES TRADE REPRESENTATIVE

Request for Comments To Assist in Reviewing and Identifying Unfair Trade Practices and Initiating All Necessary Actions To Investigate Harm From Non-Reciprocal Trade Arrangements

AGENCY: Office of the United States Trade Representative (USTR).

ACTION: Request for comments.

SUMMARY: Pursuant to the America First Trade Policy Presidential Memorandum and the Presidential Memorandum on Reciprocal Trade and Tariffs, USTR invites comments from the public, on a country-by-country basis, to assist the U.S. Trade Representative in reviewing and identifying any unfair trade practices by other countries, and in initiating all necessary actions to investigate the harm to the United States from any non-reciprocal trade arrangements. This information will assist the U.S. Trade Representative in recommending appropriate actions to remedy such practices and reporting to the President proposed remedies in pursuit of reciprocal trade relations.

DATES: The deadline for submission of comments is March 11, 2025.

ADDRESSES: Submit written comments in response to this notice through the online USTR portal: https://comments.ustr.gov/s/. Follow the instructions for submission in section III below. The docket number is USTR-2025-0001. For alternatives to online submissions, please contact Catherine Gibson, Deputy Assistant U.S. Trade Representative for Monitoring and Enforcement at Catherine.H.Gibson@ustr.eop.gov or 202.395.5725.

FOR FURTHER INFORMATION CONTACT: Catherine Gibson, Deputy Assistant U.S. Trade Representative for Monitoring and Enforcement at Catherine.H.Gibson@ustr.eop.gov or 202.395.5725.

SUPPLEMENTARY INFORMATION:

I. Background

Section 2(c) of the America First Trade Policy Presidential Memorandum calls on the U.S. Trade Representative, in consultation with the Secretary of the Treasury, the Secretary of Commerce, and the Senior Counselor for Trade and Manufacturing, to undertake a review of, and identify, any unfair trade practices by other countries and recommend appropriate actions to remedy such practices under applicable authorities, including, but not limited to, the U.S. Constitution, 15 U.S.C. 71-75, 19 U.S.C. 1337, 1338, 2252, 2253, and 2411, 50 U.S.C. 1701 and trade agreement implementing acts. Under section 5(c), the U.S. Trade Representative must deliver the results of that undertaking to the President in a unified report by April 1, 2025.

Section 3(a) of the Presidential Memorandum on Reciprocal Trade and Tariffs provides that, after the submission of the report due under the America First Trade Policy Memorandum, the Secretary of Commerce and the U.S. Trade Representative, in consultation with the Secretary of the Treasury, the Secretary of Homeland Security, the Assistant to the President for Economic Policy, the Senior Counselor to the President for Trade and Manufacturing, and the heads of such other executive departments and agencies as the Secretary of Commerce and the U.S. Trade Representative deem relevant, shall initiate, pursuant to their respective legal authorities, all necessary actions to investigate the harm to the United States from any non-reciprocal trade arrangements adopted by any trading partners. Upon completion of such necessary actions, they shall submit to the President a report detailing proposed remedies in pursuit of reciprocal trade relations with each trading partner.

Pursuant to sections 2(c) and 5(c) of the America First Trade Policy Presidential Memorandum and section 3(a) of the Presidential Memorandum on Reciprocal Trade and Tariffs, USTR invites comments, on a country-by-country basis,¹ to assist the U.S. Trade Representative in reviewing and identifying any unfair trade practices by other countries and in initiating all necessary actions to investigate the harm to the United States from any non-reciprocal trade arrangements. This information will assist the U.S. Trade Representative and other relevant agencies in recommending appropriate actions to remedy such practices under applicable authorities and in submitting to the President proposed remedies in pursuit of reciprocal trade relations.

¹ Submissions regarding economic areas with member states, such as the European Union, may set out responses on an economy-wide or member state-by-member state basis.

II. Topics on Which USTR Seeks Information

USTR invites any interested party to provide information relating to any unfair trade practice by a foreign country or economy or with respect to a non-reciprocal trade arrangement. Unfair trade practices may encompass an expansive range of practices, such as policies, measures, or barriers that undermine or harm U.S. production, or exports, or a failure by a country to take action to address a non-market policy or practice in a way which harms the United States. The information should include the foreign country or economy concerned, the practice or trade arrangement of concern, a brief explanation of the operation of the practice or trade arrangement, and an explanation of the impact or effect of the practice or trade arrangement on the interested party or on U.S. interests generally. Submissions should quantify the harm or cost (including actual cost or opportunity cost) to American workers, manufacturers, farmers, ranchers, entrepreneurs and businesses from the practice or trade arrangement of concern—ideally ascribing a dollar amount to the harm or cost and describing the underlying methodology.

USTR is pursuing its review of all countries consistent with the President's instruction and will consider submissions addressing unfair or non-reciprocal practices by any country. USTR is particularly interested in submissions related to the largest trading economies, such as G20 countries, as well as those economies that have the largest trade deficits in goods with the United States, including Argentina, Australia, Brazil, Canada, China, the European Union, India, Indonesia, Japan, Korea, Malaysia, Mexico, Russia, Saudi Arabia, South Africa, Switzerland, Taiwan, Thailand, Türkiye, United Kingdom, and Vietnam. These countries cover 88 percent of total goods trade with the United States.

These submissions will inform the U.S. Trade Representative's review and identification of unfair trade practices, recommendation of appropriate actions to remedy, and report to the President under sections 2(c) and 5(c) of the America First Trade Policy Presidential Memorandum, as well as the U.S. Trade Representative's initiation of actions under section 3(a) of the Reciprocal Trade and Tariffs Presidential Memorandum. The U.S. Trade Representative also may take action in furtherance of the America First Trade Policy Presidential Memorandum and/or the Reciprocal Trade and Tariffs Presidential Memorandum in advance of these submissions, as warranted. Other reviews, investigations, and actions for addressing unfair and unbalanced trade as set out in the America First Trade Policy Presidential Memorandum, such as with respect to the United States-Mexico-Canada Agreement, the Economic and Trade Agreement Between the Government of the United States of America and the Government of the People's Republic of China, and other existing United States trade agreements and sectoral trade agreements, will continue. Consistent with its statutory mandate, USTR welcomes ongoing engagement with and information from any interested party regarding unfair foreign trade practices of any foreign country or economy, and this request for comment should not be understood as the sole opportunity for an interested party to provide such information.

III. Submission Instructions

You must submit written comments in response to this notice using the appropriate docket on the portal at https://comments.ustr.gov/s/. To make a submission, use docket number USTR-2025-0001 entitled `Request for Comments to Assist in Reviewing and Identifying Unfair Trade Practices and Initiating All Necessary Actions to Investigate Harm From Non-Reciprocal Trade Arrangements'. You do not need to establish an account to submit comments. The first screen allows you to enter identification and contact information. Third party organizations such as law firms, trade associations, or customs brokers should identify the full legal name of the organization they represent and identify the primary point of contact for the submission. Fields with a gray Business Confidential Information (BCI) notation are for BCI information that will not be made publicly available. Fields with a green (Public) notation will be viewable by the public. After entering the identification and contact information, you can complete the remainder of the comment, or any portion of it, by clicking `Next.' You may upload documents at the end of the form and indicate whether USTR should treat the documents as business confidential or public information. Any page containing BCI must be clearly marked `BUSINESS CONFIDENTIAL' on the top of that page and the submission should clearly indicate, via brackets, highlighting, or other means, the specific information that is BCI. If you request business confidential treatment, you must certify in writing that the information would not customarily be released to the public. Parties uploading attachments containing BCI also must submit a public version of their comments. If these procedures are not sufficient to protect BCI or otherwise protect business interests, please contact Catherine Gibson at Catherine.H.Gibson@ustr.eop.gov or 202.395.5725 to discuss whether alternative arrangements are possible. USTR will post attachments uploaded to the docket for public inspection, except for properly designated BCI. You can view submissions on USTR's electronic portal at https://comments.ustr.gov/s/.

Juan Millan,
Acting U.S. Trade Representative, Office of the United States Trade Representative.

[FR Doc. 2025-03047 Filed 2-24-25; 8:45 am]

BILLING CODE 3390-F4-P